DEPARTMENT OF THE TREASURY

United States Mint

Price for the 2012 Limited Edition Silver Proof Set™

AGENCY: United States Mint, Department of the Treasury.

ACTION: Notice.

SUMMARY: The United States Mint is announcing a price of $149.95 for the 2012 Limited Edition Silver Proof Set™.

FOR FURTHER INFORMATION CONTACT: B.B. Craig, Associate Director for Sales and Marketing, United States Mint, 801 9th Street NW., Washington, DC 20220, or call 202-354-7500.

Authority: 31 U.S.C. 5111, 5112 & 9701.

Dated: November 9, 2012.
Richard A. Peterson,
Acting Director, United States Mint.

[FR Doc. 2012-28035 Filed 11-16-12; 8:45 am]

BILLING CODE P